DEPARTMENT OF HOMELAND SECURITY

Coast Guard

33 CFR Part 117

[Docket No. USCG-2018-0080]

Drawbridge Operation Regulation; Hampton River, Hampton, NH

AGENCY: Coast Guard, DHS.

ACTION: Notice of deviation from drawbridge regulation.

SUMMARY: The Coast Guard has issued a temporary deviation from the operating schedule that governs the SR1A Bridge across the Hampton River, mile 0.0, at Hampton, NH. The deviation is necessary to allow the replacement of couplers on the bridge. This deviation allows the bridge to be closed to navigation.

DATES: This deviation is effective from 6:30 a.m. on February 19, 2018 to 11:59 p.m. on March 23, 2018.

ADDRESSES: The docket for this deviation, USCG-2018-0080 is available at http://www.regulations.gov. Type the docket number in the “SEARCH” box and click “SEARCH”. Click on Open Docket Folder on the line associated with this deviation.

FOR FURTHER INFORMATION CONTACT: If you have questions on this temporary deviation, call or email Mr. Jeffrey Stieb, First Coast Guard District Bridge Branch, Coast Guard; telephone 617-223-8364, email Jeffrey.D.Stieb@uscg.mil.

SUPPLEMENTARY INFORMATION: The owner of the bridge, the New Hampshire Department of Transportation (NH DOT), requested a temporary deviation to replace the failed couplings to the operating machinery of the bridge. The SR1A Bridge across the Hampton River, mile 0.0, at Hampton, New Hampshire, has a vertical clearance in the closed position of 18 feet at mean high water and 26.5 feet at mean low water. The existing bridge operating regulations are found at 33 CFR 117.697.

This temporary deviation allows the bridge to remain in the closed to navigation position from 6:30 a.m. on February 19, 2018, through 11:59 p.m. on March 23, 2018. The deviation will have negligible effect on vessel navigation. The waterway is transited primarily by seasonal recreational vessels and small commercial fishing vessels. In 2016 and in 2017 there were only three openings in the month of March.

NH DOT has met and maintained frequent communication with waterway users, the harbormaster and town officials through direct contact and public meetings. No objections to the proposed closure were received. Vessels that can pass through the bridge in the closed position may do so. The bridge will not be able to open for emergencies and there is no immediate alternate route for vessels unable to pass through the bridge in the closed position. The Coast Guard will inform waterway users of the closure through Local and Broadcast Notices to Mariners in order to minimize any impact caused by the temporary deviation.

In accordance with 33 CFR 117.35(e), the drawbridge must return to its regular operating schedule immediately at the end of the effective period of this temporary deviation. This deviation from the operating regulations is authorized under 33 CFR 117.35.

Dated: February 1, 2018.
Christopher J. Bisignano,
Supervisory Bridge Management Specialist, First Coast Guard District.

[FR Doc. 2018-03177 Filed 2-14-18; 8:45 am]

BILLING CODE 9110-04-P